POSTAL SERVICE

International Product Change—Global Direct Negotiated Service Agreements

AGENCY: Postal Service.™

ACTION: Notice.

SUMMARY: Postal Service notice of filing a request with the Postal Regulatory Commission to add Global Direct Negotiated Service Agreements to the Competitive Products List pursuant to 39 U.S.C. 3642.

DATES: December 19, 2008.

FOR FURTHER INFORMATION CONTACT: Margaret M. Falwell, 703-292-3576.

SUPPLEMENTARY INFORMATION: The United States Postal Service ® hereby gives notice that it has filed with the Postal Regulatory Commission a Request of United States Postal Service to Add Global Direct Negotiated Service Agreements to the Competitive Product List, and Notice of Filing (Under Seal) the Enabling Governor's Decision and Two Functionally Equivalent Agreements. Documents are available at http://www.prc.gov, Docket Nos. MC2009-9, CP2009-10, and CP2009-11.

Neva R. Watson,
Attorney, Legislative.

[FR Doc. E8-30138 Filed 12-18-08; 8:45 am]

BILLING CODE 7710-12-P